DEPARTMENT OF AGRICULTURE

Agricultural Marketing Service

[Docket No. AMS-TM-13-0015; TM-13-01]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for an extension of and revision to the currently approved information collection, Federal-State Marketing Improvement Program (FSMIP).

DATES: Comments on this notice must be received by July 22, 2013 to be assured of consideration.

Additional Information or Comments: Contact Janise Zygmont, Staff Officer, Federal-State Marketing Improvement Program, Transportation and Marketing Program, Agricultural Marketing Service, U.S. Department of Agriculture, 1400 Independence Avenue SW., Room 4549-S, Washington, DC 20250, telephone: 202-720-5024; fax: 202-690-1144.

SUPPLEMENTARY INFORMATION: FSMIP is authorized under Section 204(b) of the Agricultural Marketing Act of 1946 (7 U.S.C. 1621 et seq.). FSMIP provides matching grants on a competitive basis to enable States to explore new market opportunities for U.S. food and agricultural products and to encourage research and innovation aimed at improving the efficiency and performance of the U.S. marketing system.

Title: Federal-State Marketing Improvement Program (FSMIP)

OMB Number: 0581-0240.

Type of Request: Extension and revision of a currently approved information collection.

Expiration Date of Approval: December 31, 2013.

Abstract: The primary objective of FSMIP is to enable States to explore new market opportunities for U.S. food and agricultural products and to encourage research and innovation aimed at improving the efficiency and performance of the U.S. marketing system. Eligible entities under this program include State departments of agriculture, State agricultural experiment stations, and other appropriate State Agencies.

AMS has established Application Guidelines that contain full details about FSMIP and the application process. The guidelines are available from the FSMIP Staff Officer by calling 202/720-5024, faxing-202/690-1144, or emailing to janise.zygmont@ams.usda.gov. This information is also available at the FSMIP Web site: www.ams.usda.gov/FSMIP. FSMIP applicants must complete Form SF-424, “Application for Federal Assistance,” (approved under OMB #4040-0004), and Form SF-424B, “Assurances Non-Construction Program,” (approved under OMB #0348-0040) for each application. The Project Narrative and Other Required Elements are also required for each application. Form SF-424A, “Budget Information—Non-Construction Programs,” (approved under OMB #4040-0006) was previously required for each application, but starting in fiscal year 2013, this form is no longer required.

AMS needs to receive the information contained in this collection of information to select the projects that will best meet and fulfill FSMIP program objectives. The selection process is competitive and AMS must ensure that limited funds are used for the intended purpose.

Estimate of Burden: The public reporting burden for FSMIP applicants to apply for a grant, and for FSMIP grantees to complete all requirements in the post-award period is estimated to average 10.50 hours per response. This public reporting burden also includes an estimate of the burden for non-federal proposal reviewers to complete a Conflict of Interest/Confidentiality Statement and to complete evaluations of assigned proposals using a Proposal Score Sheet for Reviewers.

Respondents: State departments of agriculture, State agricultural experiment stations, and other appropriate State Agencies.

Estimated Number of Respondents: 80.

Estimated Total Annual Responses: 520.

Estimated Number of Responses per Respondent: 6.5.

Estimated Total Annual Burden on Respondents: 5,462 hours.

After applications have been reviewed and final awards announced, grantees must read the Grant Terms and Conditions and sign the AMS-33 Agreement Face Sheet to certify compliance with applicable Federal regulations. The Grant Terms and Conditions outline responsibilities of both parties with regard to the grant. The Grant Terms and Conditions replace the following forms that were approved under the previous collection: AD-1047, Certification Regarding Debarment, Suspension, and Other Responsibility Matters—Primary Covered Transactions; AD-1048, Certification Regarding Debarment, Suspension, Ineligibility and Voluntary Exclusion—Lower Tier Covered Transactions; and AD-1049, Certification Regarding Drug-Free Workplace Requirements (Grants) Alternative 1-for Grantees Other Than Individuals.

The AMS-33 Agreement Face Sheet replaces the Grant Agreement that was approved under the previous collection. The information will be used to affirm the award amount, time frame, objectives and work plan agreed upon by the grantee and USDA/AMS.

Standard Form 270, Request for Advance or Reimbursement (approved under OMB #0348-0004), is completed whenever the grantee requests an advance or reimbursement of grant funds. The information will be used to keep track of grant disbursements and the level of matching funds expended by the grantee during the grant period. We expect that grantees will submit a total of three SF-270 forms annually.

Progress Reports are required at the midpoint of projects approved for one year and at six-month intervals for projects of longer duration. Progress Reports should (1) briefly summarize activities performed and milestones achieved for each objective or sub-element of the narrative; (2) note unexpected delays or impediments as well as favorable or unusual developments; (3) outline work to be performed during the succeeding period; and (4) indicate the amount of grant and matching funds expended to date. We expect that grantees will submit a total of two Progress Reports during the grant period.

Not later than 90 days following the ending date of the grant the grantee must submit Standard Form 425, Federal Financial Report (approved under OMB #0348-0061), to document the final financial status of the grant project and to indicate that the one-to-one matching requirement has been met. The grantee must also submit a Final Report of results and accomplishments within 90 days following the grant ending date. The Final Report will include:

• An outline of the issue or problem.

• A description of how the issue or problem was approached via the project.

• A description of the contribution of public or private agency cooperators.

• A description of results, conclusions and lessons learned.

• A summary of current or future benefits to be derived from the project.

• Additional information available (publications, Web sites).

• Recommendations for future research needed, if applicable.

• A description of the project beneficiaries.

• The contact person for the project with telephone number and email address.

This collection adds two items relating to the grant review process: A Conflict of Interest/Confidentiality Statement and a Proposal Score Sheet for Reviewers. Upon receipt of an application, the FSMIP Staff Officer ensures that all components of the application are present. The FSMIP Staff Officer also ensures that the $1 for $1 required match is met. Each proposal is then assigned to several subject matter specialists from AMS and elsewhere in USDA to evaluate and score. Reviewers from other Federal agencies and the university community may be sought depending on the subject matter and scope of the proposals. All reviewers sign a Conflict of Interest/Confidentiality Statement before beginning their proposal reviews.

Proposals are numerically scored on several criteria by individual reviewers. These scores are used to make recommendations for funding. Reviewers use the Proposal Score Sheet for Reviewers to report their scores and comments about the strengths and weaknesses of each proposal they have been assigned to review.

Estimate of Burden: The public reporting burden for reading and signing the Conflict of Interest/Confidentiality Statement, for reviewing six proposals, and for completing the Proposal Score Sheet for Reviewers is estimated to average 1.93 hours per response.

Respondents: Non-federal proposal reviewers.

Estimated Number of Respondents: 20.

Estimated Total Annual Responses: 140.

Estimated Number of Responses per Respondent: 7.

Estimated Total Annual Burden on Respondents: 270 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Janise Zygmont, FSMIP Staff Officer, USDA, AMS, 1400 Independence Avenue SW., Room 4549-S, Washington, DC 20250, telephone: 202-720-5024; fax: 202-690-1144. All comments received will be available for public inspection during regular business hours at the same address.

All responses to this notice will be summarized and included in the request for OMB approval. All comments will become a matter of public record.

Dated: May 17, 2013.
Rex A. Barnes,
Associate Administrator, Agricultural Marketing Service.

[FR Doc. 2013-12237 Filed 5-22-13; 8:45 am]

BILLING CODE 3410-02-P